DEPARTMENT OF COMMERCE

Office of the Secretary

[Docket No.: 170912893-7893-01]

Public Availability of Department of Commerce FY 2016 Service Contract Inventory Data

AGENCY: Office of the Secretary, Department of Commerce.

ACTION: Notice of public availability of FY 2016 service contract inventories data.

SUMMARY: In accordance with Section 743 of Division C of the Consolidated Appropriations Act of 2010 (Pub. L. 111-117), the Department of Commerce (DOC) is publishing this notice to advise the public of the availability of the Fiscal Year (FY) 2016 Service Contract Inventory data, a report that analyzes DOC's FY 2015 Service Contract Inventory and a plan for the analysis of FY 2016 Service Contract Inventory.

The service contract inventory provides information on service contract actions over $25,000 made in FY 2016. The information is organized by function to show how contracted resources are distributed throughout the agency. The inventory has been developed in accordance with guidance on service contract inventories issued on November 5, 2010, by the Office of Management and Budget's Office of Federal Procurement Policy (OFPP).

ADDRESSES: The Department of Commerce's FY 2016 Service Contract Inventory is included in the government-wide inventory available at: https://www.acquisition.gov/service-contract-inventory, which can be filtered to display the FY 2016 inventory for each agency. In addition to the link to access DOC's FY 2016 service contract inventory, the FY 2015 Analysis Report and Plan for analyzing the FY 2016 data is on the Office of Acquisition Management homepage at the following link http://www.osec.doc.gov/oam/. OFPP's guidance memo on service contract inventories is available at: http://www.whitehouse.gov/sites/default/files/omb/procurement/memo/service-contract-inventories-guidance-11052010.pdf.

FOR FURTHER INFORMATION CONTACT: Questions regarding the service contract inventory should be directed to Virna Winters, Director for Acquisitions Policy and Oversight Division at 202-482-4248 or vwinters@doc.gov.

Ellen Herbst,
Chief Financial Officer and Assistant Secretary for Administration.

[FR Doc. 2018-11345 Filed 5-24-18; 8:45 am]

BILLING CODE P